DEPARTMENT OF COMMERCE

International Trade Administration

[A-533-843]

Certain Lined Paper Products from India: Extension of Time Limits for the Preliminary Results of Antidumping Duty Administrative Review

AGENCY: Import Administration, International Trade Administration, Department of Commerce.

FOR FURTHER INFORMATION CONTACT: Cindy Robinson, AD/CVD Operations, Office 3, Import Administration, International Trade Administration, U.S. Department of Commerce, 14th Street and Constitution Ave, NW, Washington, DC 20230; telephone: (202) 482-3797.

SUPPLEMENTARY INFORMATION:

Background

On October 31, 2007, the U.S. Department of Commerce (“Department”) published a notice of initiation of the administrative review of the antidumping duty order on certain lined paper products from India, covering the period April 17, 2006 to August 31, 2007. See Initiation of Antidumping and Countervailing Duty Administrative, 72 FR 61621 (October 31, 2007). The preliminary results of this review are currently due no later than June 1, 2008.

Extension of Time Limit of Preliminary Results

Section 751(a)(3)(A) of the Tariff Act of 1930, as amended (“the Act”), requires that the Department make a preliminary determination within 245 days after the last day of the anniversary month of an order for which a review is requested. Section 751(a)(3)(A) of the Act further states that if it is not practicable to complete the review within the time period specified, the administering authority may extend the 245-day period to issue its preliminary results to up to 365 days.

We determine that completion of the preliminary results of this review within the 245-day period is not practicable for the following reasons. One respondent has complex affiliation issues which require the Department to gather and analyze a significant amount of information associated with affiliation and the companies’ sales practices and manufacturing costs. In addition, domestic interested parties have raised other issues which require the collection of additional information. Given the number and complexity of issues in this case and the Department’s resource constraints, and in accordance with section 751(a)(3)(A) of the Act, we are fully extending the time period for issuing the preliminary results of review. Therefore, the preliminary results are now due no later than September 29, 2008. The final results continue to be due 120 days after publication of the preliminary results.

This notice is published pursuant to sections 751(a)(3)(A) and 777(i)(1) of the Act.

Dated: April 24, 2008.
Stephen J. Claeys,
Deputy Assistant Secretary for Import Administration.

[FR Doc. E8-9722 Filed 5-1-08; 8:45 am]

BILLING CODE 3510-DR-S